DEPARTMENT OF COMMERCE

National Oceanic and Atmospheric Administration

50 CFR Part 648

[Docket No. 040112010-4114-02 ; I.D. 050604B]

Fisheries of the Northeastern United States; Northeast (NE) Multispecies Fishery; Commercial Haddock Harvest

AGENCY: National Marine Fisheries Service (NMFS), National Oceanic and Atmospheric Administration (NOAA), Commerce.

ACTION: Removal of haddock trip limit.

SUMMARY: NMFS announces that the Administrator, Northeast Region, NMFS (Regional Administrator), is eliminating the daily and maximum haddock trip limits for the groundfish fishery specified at 50 CFR 648.86(a) for the remainder of the 2004 fishing year, through April 30, 2005. Accordingly, there is no trip limit on the amount of haddock that can be harvested or landed for the rest of the fishing year for vessels subject to these regulations. The Regional Administrator has projected that less than 75 percent of the haddock target total allowable catch (TAC) will be harvested for the 2004 fishing year under the restrictive daily possession and trip limits. This action is intended to allow fishermen to catch the haddock TAC, without exceeding the TAC.

DATES: Effective May 7, 2004 through April 30, 2005.

FOR FURTHER INFORMATION CONTACT: Douglas W. Christel, Fishery Policy Analyst, 978-281-9141.

SUPPLEMENTARY INFORMATION: Framework Adjustment 33 to the NE Multispecies Fishery Management Plan (FMP), which became effective May 1, 2000, implemented the current haddock trip limit regulations (65 FR 21658, April 24, 2000). To ensure that haddock landings do not exceed the appropriate target TAC, Framework 33 established a haddock trip limit of 3,000 lb (1,360.8 kg) per NE multispecies day-at-sea (DAS) fished and a maximum trip limit of 30,000 lb (13,608 kg) of haddock for the period May 1 through September 30; and 5,000 lb (2,268 kg) of haddock per DAS and 50,000 lb (22,680 kg) per trip from October 1 through April 30. Framework 33 also provided a mechanism to adjust the haddock trip limit based upon the percentage of TAC that is projected to be harvested. Section 648.86(a)(1)(iii)(B) specifies that, if the Regional Administrator projects that less than 75 percent of the haddock target TAC will be harvested in the fishing year, the trip limit may be adjusted or eliminated. Further, this section stipulates that NMFS will publish notification in the Federal Register informing the public of the date of any changes to the trip limit.

The Supplemental Environmental Impact Statement (SEIS) prepared for Amendment 13 to the FMP (Amendment 13) estimated the total target TAC for the Gulf of Maine (GOM) and Georges Bank (GB) haddock stocks during the 2004 fishing year at 29,686 metric tons (mt) (65,445,755 lb), including both U.S. and Canadian landings. The Canadian quota for eastern GB haddock was set at 9,900 mt (21,825,540 lb). Therefore, the U.S. portion of the total target TAC for haddock for the 2004 fishing year is the difference between the entire haddock target TAC and the Canadian quota, or 19,786 mt (43,620,216 lb). This amount includes the target TAC for the GOM and GB haddock stocks as well as a haddock TAC of 5,100 mt (11,243,460 lb) specific to the Eastern U.S./Canada Management Area.

Based on recent historical fishing practices and an assessment of the impacts of management measures contained within Amendment 13 on haddock landings during the 2004 fishing year, the Regional Administrator has projected that less than 75 percent of the haddock target TAC for the 2004 fishing year (14,840 mt or 32,715,162 lb) will be harvested by April 30, 2005, under the restrictive daily possession and trip limits. In addition, this projection indicates that eliminating the daily and maximum trip limits for haddock would not likely precipitate haddock landings reaching the Eastern U.S./Canada Management Area haddock TAC of 5,100 mt (11,243,460 lb). The Regional Administrator has therefore determined that eliminating the 3,000-lb (1,360.8-kg) and 5,000-lb (2,268-kg) daily haddock possession limits as well as the associated 30,000-lb (13,608-kg) and 50,000-lb (22,680-kg) per trip possession limits for May 1 through September 30, 2004, and October 1, 2004 through April 30, 2005, respectively, will ensure that at least 75 percent of the target TAC will be harvested for the 2004 fishing year without exceeding the haddock target TAC or the TAC for the Eastern U.S./Canada Management Area. In order to prevent the TAC from being exceeded, the Regional Administrator will monitor haddock landings and may adjust this possession limit again through publication of a notification in the Federal Register, pursuant to § 648.86(a)(1)(iii), if necessary.

Classification

The Assistant Administrator for Fisheries, NOAA, (AA), finds good cause to waive the requirement to provide prior notice and opportunity for public comment pursuant to the authority set forth at 5 U.S.C. 553(b)(B) as such requirement is unnecessary and contrary to the public interest. To further delay the elimination of the haddock trip limits is contrary to the public interest because it would unnecessarily result in wasteful discards and prevent the haddock fishery from achieving optimum yield. Moreover, the public had opportunity to comment on the adjustment of haddock trip limits and its consequences at the time the trip limits were implemented.

This action relieves a restriction by eliminating unnecessary daily and maximum trip limits for haddock for the remainder of the 2004 fishing year. These limits were implemented to prevent the target TAC for haddock from being exceeded. The target TAC for haddock has not been exceeded since 1996. Eliminating these restrictions would allow the fishing industry to harvest at least 75 percent of the target TAC for haddock during the 2004 fishing year. Further, eliminating these restrictions would allow vessels to possess and land haddock in excess of the daily and maximum trip limits, thereby preventing biological waste and providing an opportunity to offset some of the adverse economic impacts resulting from the implementation of Amendment 13 to the NE Multispecies FMP. Therefore, because this rule relieves a restriction pursuant to 5 U.S.C.553(d)(1) of the Administrative Procedure Act, the Assistant Administrator for Fisheries, NOAA, waives the 30-day delay in effectiveness date for this final rule.

This action is required by 50 CFR part 648 and is exempt from review under Executive Order 12866.

Authority: 16 U.S.C. 1801 et seq.

Dated: May 7, 2004.
Alan D. Risenhoover,
Deputy Director, Office of Sustainable Fisheries, National Marine Fisheries Service.

[FR Doc. 04-10805 Filed 5-7-04; 3:38 pm]

BILLING CODE 3510-22-S